AGENCY FOR INTERNATIONAL DEVELOPMENT

Board for International Food and Agricultural Development; One Hundred and Forty-Eighth Meeting; Notice of Meeting

Pursuant to the Federal Advisory Committee Act, notice is hereby given of the one hundred and forty-eighth meeting of the Board for International Food and Agricultural Development (BIFAD). The meeting will be held from 8:30 a.m. to 3:30 p.m. on July 6, 2006 in the ground floor meeting room of the National Association of State Universities & Land Grant Colleges (NASULGC), at 1307 New York Avenue, NW., Washington, DC.

The BIFAD will hear briefings on USAID agricultural programming from its regional bureaus, a sampling of U.S. University led agricultural and natural resources management development programs, the status of the Collaborative Research Support Program (CRSP) portfolio, guidelines and procurement, and other items of current interest.

The meeting is free and open to the public. Those wishing to attend the meeting or obtain additional information about BIFAD should contact John Rifenbark, the Designated Federal Officer for BIFAD. Write him in care of the U.S. Agency for International Development, Ronald Reagan Building, Office of Agriculture, Bureau for Economic Growth, Agriculture and Trade, 1300 Pennsylvania Avenue, NW., Room 2.11-004, Washington DC 20523-2110 or telephone him at (202) 712-0163 or fax (202) 216-3010.

John T. Rifenbark,
USAID Designated Federal Officer for BIFAD, Office of Agriculture, Bureau for Economic Growth, Agriculture & Trade, U.S. Agency for International Development.

[FR Doc. E6-9425 Filed 6-15-06; 8:45 am]

BILLING CODE 6116-01-P